DEPARTMENT OF VETERANS AFFAIRS

Enhanced-Use Lease of Department of Veterans Affairs Real Property for the Development of Permanent Supportive Housing at the Charlie Norwood Uptown Veterans Affairs Medical Center, Augusta, Georgia Campus

AGENCY: Department of Veterans Affairs.

ACTION: Notice of intent to enter into an enhanced-use lease.

SUMMARY: The purpose of this Federal Register notice is to provide the public with notice that the Secretary of Veterans Affairs (VA) intends to enter into an Enhanced-Use Lease (EUL) of Buildings 19 and 20 on approximately 2.46 acres of underutilized land on the campus of the Charlie Norwood Uptown VA Medical Center.

FOR FURTHER INFORMATION CONTACT: C. Brett Simms, Executive Director, Office of Asset Enterprise Management, Office of Management, 810 Vermont Avenue NW, Washington, DC 20420, (202) 502-0262. This is not a toll-free number.

SUPPLEMENTARY INFORMATION: Pursuant to 38 U.S.C. 8161, et seq. as amended by Public Law 117-168, the Secretary of Veterans Affairs is authorized to enter into an EUL, for a term of up to 99 years, that (a) provides supportive housing for Veterans and their families, or (b) enhances the use of the leased property by directly or indirectly benefitting Veterans. In addition, the EUL must not be inconsistent with and not adversely affect VA's mission or the operation of VA's facilities, programs, and services in the area of the leased property. Consistent with this authority, the Secretary intends to enter into an EUL for the purpose of outleasing Buildings 19 and 20 on approximately 2.46 acres of underutilized land on the campus of the Charlie Norwood Uptown VA Medical Center, to develop approximately 77 units of permanent supportive housing for Veterans and their families. The competitively selected EUL lessee/developer, Freedom's Path Augusta III, LP will finance, design, develop, renovate, construct, manage, maintain, and operate housing for eligible homeless Veterans or Veterans at risk of homelessness on a priority placement basis. In addition, the lessee/developer will be required to provide supportive services that guide Veteran residents towards long-term independence and self-sufficiency.

Signing Authority

Denis McDonough, Secretary of Veterans Affairs, approved and signed this document on December 19, 2024, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2024-30961 Filed 12-27-24; 8:45 am]

BILLING CODE 8320-01-P